NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: The National Museum and Library Services Board, which advises the Director of the Institute of Museum and Library Services on general policies with respect to the duties, powers, and authority of the Institute relating to museum, library and information services, will meet on May 8, 2014.

DATE AND TIME: Thursday, May 8, 2014, from 2:30 to 6:00 p.m. EST.

PLACE: The meeting will be held at the Institute of Museum and Library Services, 1800 M Street NW., Suite 900, Washington, DC 20036. Telephone: (202) 653-4798.

STATUS: The meeting will be open to the public.

AGENDA: Twenty-Ninth Meeting of the National Museum and Library Service Board Meeting:

I. Welcome

II. Financial Update

III. Legislative Update

IV. Program Updates

V. Research Update

VI. Board Program

VII. Board Discussion

VIII. Adjournment

FOR FURTHER INFORMATION CONTACT: Katherine Maas, Program Specialist, Institute of Museum and Library Services, 1800 M Street NW., 9th Floor, Washington, DC 20036. Telephone: (202) 653-4676. Please provide advance notice of any special needs or accommodations.

Dated: April 9, 2014.
Andrew Christopher,
Assistant General Counsel.

[FR Doc. 2014-08696 Filed 4-11-14; 4:15 pm]

BILLING CODE 7536-01-P